DEPARTMENT OF TRANSPORTATION

Federal Transit Administration

FTA Supplemental Fiscal Year 2012 Apportionments, Allocations, and Program Information

AGENCY: Federal Transit Administration (FTA), DOT.

ACTION: Notice.

SUMMARY: The Federal Transit Administration (FTA) annually publishes one or more notices apportioning funds appropriated by law. In some cases, if less than a full year of funds is available, FTA publishes multiple partial apportionment notices. This notice is the second notice announcing partial apportionment for programs funded with Fiscal Year (FY) 2012 contract authority because the current authorization of FTA's programs provides contract authority for the period October 1, 2011 through June 30, 2012.

FOR FURTHER INFORMATION CONTACT: For general information about this notice contact Kimberly Sledge, Acting Director, Office of Transit Programs, at (202) 366-2053. Please contact the appropriate FTA regional office for any specific requests for information or technical assistance. A list of FTA regional offices and contact information is available on the FTA Web site at http://www.fta.dot.gov.

I. Overview

FTA's current authorization, the Safe, Accountable, Flexible, Efficient, Transportation Equity Act: A Legacy for Users (SAFETEA-LU), expired September 30, 2009. Since that time, Congress has enacted short-term extensions allowing FTA to continue its current programs. The Surface Transportation Extension Act of 2012, Public Law 112-102, continues the authorization of the Federal transit programs of the U.S. Department of Transportation (DOT) through June 30, 2012. It extends contract authority for the Formula and Bus Grants programs at approximately seventy-five percent of the FY 2011 levels until June 30 2012.

Additionally, FTA's full-year appropriations bill (Pub. L. 112-055, the Consolidated and Further Continuing Appropriations Act, 2012), hereinafter (“Appropriations Act, 2012”) was enacted in November 2011, giving FTA appropriated resources for all of FY 2012 for Administrative Expenses, Capital Investment Grants, and Research programs and grants to the Washington Metropolitan Area Transportation Authority. The Appropriations Act, 2012 also provides a full fiscal year obligation limitation on any contract authority that is made available to FTA programs funded from the Mass Transit Account of the Highway Trust Fund during this fiscal year.

On January 11, 2012, FTA published an apportionments notice that apportioned the FY 2012 authorized contract authority among potential program recipients based on contract authority that was available from October 1, 2011 through March 31, 2012 (see Federal Register Volume 77, No.7). That notice also provided relevant information about the FY 2012 funding available, program requirements, period of availability, prior year unobligated balances, and other related program information and highlights. A copy of that notice and accompanying tables can be found on the FTA Web site at http://www.fta.dot.gov/apportionments.

This document apportions the currently available FY 2012 authorized contract authority among potential program recipients according to statutory formulas in 49 U.S.C. Chapter 53 and allocates Section 5309 Bus and Bus Facilities funds to bus testing and the Fuel Cell program.

Tables displaying the funds available to eligible states and urbanized areas have been posted on FTA's Web site at http://www.fta.dot.gov/apportionments. The table below displays funds allocated to bus testing and the Fuel Cell program. FTA will issue a supplemental notice at a later date if additional contract authority becomes available. This notice does not include reprogramming of discretionary funds that lapsed to the designated project as of September 30, 2011 or the allocation of FY 2012 discretionary resources.

FY 2012 Bus and Bus Facilities Allocations
State | Project ID | Project description/name | Amount allocated
CA, GA, MA | E2012-BUSP-018 | Fuel Cell Bus Program | $13,500,000
PA | E2012-BUSP-019 | Bus Testing | 3,000,000
FY 2012 Total |  |  | 16,500,000

Issued in Washington, DC, this 4th day of May 2012.
Peter Rogoff,
Administrator.

[FR Doc. 2012-11203 Filed 5-8-12; 8:45 am]

BILLING CODE P